DEPARTMENT OF HOMELAND SECURITY

Federal Emergency Management Agency

[Docket ID FEMA-2014-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Colbert (FEMA Docket No.: B-1350) | City of Muscle Shoals (13-04-4919P) | The Honorable David H. Bradford, Mayor, City of Muscle Shoals, P.O. Box 2624, Muscle Shoals, AL 35662 | Building, License and Zoning Department, 2010 Avalon Avenue, Muscle Shoals, AL 35662 | December 26, 2013 | 010047
Cullman (FEMA Docket No.: B-1350) | City of Cullman (13-04-5986P) | The Honorable Max A. Townson, Mayor, City of Cullman, P.O. Box 278, Cullman, AL 35056 | Building Inspection Department, 201 2nd Avenue North, Cullman, AL 35055 | December 26, 2013 | 010209
Jefferson (FEMA Docket No.: B-1350) | Unincorporated areas of Jefferson County (13-04-4452P) | The Honorable David Carrington, Chairman, Jefferson County Commission, 716 Richard Arrington Jr. Boulevard North, Birmingham, AL 35263 | Jefferson County Courthouse, Land Development Office, 716 Richard Arrington Jr. Boulevard North, Room 202A, Birmingham, AL 35263 | January 9, 2014 | 010217
Arizona: Yavapai (FEMA Docket No.: B-1350) | Unincorporated areas of Yavapai County (12-09-2694P) | The Honorable Chip Davis, Chairman, Yavapai County Board of Supervisors, 10 South 6th Street, Cottonwood, AZ 86326 | Yavapai County Flood Control District, 500 South Marina Street, Prescott, AZ 86303 | December 27, 2013 | 040093
California: Los Angeles (FEMA Docket No.: B-1350) | City of Santa Clarita (13-09-2785P) | The Honorable Bob Kellar, Mayor, City of Santa Clarita, 23920 Valencia Boulevard, Santa Clarita, CA 91355 | City Hall, 23920 Valencia Boulevard, Suite 140, Santa Clarita, CA 91355 | January 24, 2014 | 060729
Colorado:
Jefferson (FEMA Docket No.: B-1350) | City of Westminster (13-08-0141P) | The Honorable Nancy McNally, Mayor, City of Westminster, 4800 West 92nd Avenue, Westminster, CO 80031 | City Hall, 4800 West 92nd Avenue, Westminster, CO 80031 | January 3, 2014 | 080008
Weld (FEMA Docket No.: B-1350) | Town of Frederick (12-08-1047P) | The Honorable Tony Carey, Mayor, Town of Frederick, P.O. Box 435, Frederick, CO 80530 | Planning Department, 401 Locust Street, Frederick, CO 80530 | December 27, 2013 | 080244
Weld (FEMA Docket No.: B-1350) | Unincorporated areas of Weld County (12-08-1047P) | The Honorable William Garcia, Chairman, Weld County Board of Commissioners, P.O. Box 758, Greeley, CO 80632 | Weld County Public Works Department, 1111 H Street, Greeley, CO 80632 | December 27, 2013 | 080266
Florida:
Broward (FEMA Docket No.: B-1350) | City of Hollywood (13-04-2560P) | The Honorable Peter J. M. Bober, Mayor, City of Hollywood, P.O. Box 229045, Hollywood, FL 33022 | City Hall, 2600 Hollywood Boulevard, Hollywood, FL 33020 | December 20, 2013 | 125113
Charlotte (FEMA Docket No.: B-1350) | Unincorporated areas of Charlotte County (13-04-4141P) | The Honorable Christopher Constance, Chairman, Charlotte County Board of Commissioners, 18500 Murdock Circle, Port Charlotte, FL 33948 | Charlotte County Community Development Department, 18500 Murdock Circle, Port Charlotte, FL 33948 | December 20, 2013 | 120061
Collier (FEMA Docket No.: B-1350) | City of Naples (13-04-3746P) | The Honorable John F. Sorey, III, Mayor, City of Naples, 735 8th Street South, Naples, FL 34102 | Community Development Building, 295 Riverside Circle, Naples, FL 34102 | January 10, 2014 | 125130
Lee (FEMA Docket No.: B-1350) | Town of Fort Myers Beach (13-04-3849P) | The Honorable Alan Mandel, Mayor, Town of Fort Myers Beach, 2523 Estero Boulevard, Fort Myers Beach, FL 33931 | Town Hall, 2523 Estero Boulevard, Fort Myers Beach, FL 33931 | December 27, 2013 | 120673
Monroe (FEMA Docket No.: B-1350) | Unincorporated areas of Monroe County (13-04-5099P) | The Honorable George Neugent, Mayor, Monroe County, 1100 Simonton Street, Key West, FL 33040 | Monroe County Building Department, 2798 Overseas Highway, Marathon, FL 33050 | January 10, 2014 | 125129
Osceola (FEMA Docket No.: B-1350) | Unincorporated areas of Osceola County (13-04-0941P) | The Honorable Frank Attkisson, Chairman, Osceola County Board of Commissioners, 1 Courthouse Square, Suite 4700, Kissimmee, FL 34741 | Osceola County Stormwater Section, 1 Courthouse Square, Suite 1400, Kissimmee, FL 34741 | December 27, 2013 | 120189
Sarasota (FEMA Docket No.: B-1350) | Town of Longboat Key (13-04-5092P) | The Honorable Jim Brown, Mayor, Town of Longboat Key, 501 Bay Isles Road, Longboat Key, FL 34228 | Planning, Zoning and Building Department, 501 Bay Isles Road, Longboat Key, FL 34228 | January 10, 2014 | 125126
Georgia:
Douglas (FEMA Docket No.: B-1350) | City of Douglasville (12-04-6718P) | The Honorable Harvey Persons, Mayor, City of Douglasville, P.O. Box 219, Douglasville, GA 30133 | City Hall, 6695 Church Street, Douglasville, GA 30134 | December 19, 2013 | 130305
Douglas (FEMA Docket No.: B-1350) | Unincorporated areas of Douglas County (12-04-6718P) | The Honorable Tom Worthan, Chairman, Douglas County Board of Commissioners, 8700 Hospital Drive, 3rd Floor, Douglasville, GA 30134 | Douglas County Courthouse, 8700 Hospital Drive, Douglasville, GA 30134 | December 19, 2013 | 130306
Long (FEMA Docket No.: B-1350) | Unincorporated areas of Long County (13-04-0292P) | The Honorable Robert C. Walker, Chairman, Long County Board of Commissioners, P.O. Box 476, Ludowici, GA 31316 | Long County Code Enforcement Department, 459 South McDonald Street, Ludowici, GA 31316 | January 2, 2014 | 130127
Hawaii: Honolulu (FEMA Docket No.: B-1350) | City and County of Honolulu (13-09-1536P) | The Honorable Kirk Caldwell, Mayor, City and County of Honolulu, 530 South King Street, Honolulu, HI 96813 | Department of Planning and Permitting, 650 South King Street, Honolulu, HI 96813 | January 3, 2014 | 150001
Kentucky:
Hopkins (FEMA Docket No.: B-1350) | City of Dawson Springs (13-04-6193P) | The Honorable Jenny Sewell, Mayor, City of Dawson Springs, 200 West Arcadia Avenue, Dawson Springs, KY 42408 | Hopkins County Courthouse, 10 South Main Street, Room 12, Madisonville, KY 42431 | January 10, 2014 | 210113
Hopkins (FEMA Docket No.: B-1350) | Unincorporated areas of Hopkins County (13-04-6193P) | The Honorable Donald E. Carroll, Hopkins County Judge Executive, 56 North Main Street, Madisonville, KY 42431 | Hopkins County Courthouse, 10 South Main Street, Room 12, Madisonville, KY 42431 | January 10, 2014 | 210112
Montana: Yellowstone (FEMA Docket No.: B-1350) | Unincorporated areas of Yellowstone County (13-08-0535P) | The Honorable Jim Reno, Chairman, Yellowstone County Board of Commissioners, P.O. Box 35000, Billings, MT 59107 | Yellowstone County Courthouse, 217 North 27th Street, Billings, MT 59101 | January 3, 2014 | 300142
South Carolina:
Lee (FEMA Docket No.: B-1350) | Town of Bishopville (13-04-1422P) | The Honorable Alexander C. Boyd, Mayor, Town of Bishopville, P.O. Box 388, Bishopville, SC 29010 | Town Hall, 135 East Church Street, Bishopville, SC 29010 | January 23, 2014 | 450127
Lee (FEMA Docket No.: B-1350) | Unincorporated areas of Lee County (13-04-1422P) | The Honorable R. Travis Windham, Chairman, Lee County Board of Commissioners, P.O. Box 545, Bishopville, SC 29010 | Bishopville City Hall, 135 East Church Street, Bishopville, SC 29010 | January 23, 2014 | 450126

(Catalog of Federal Domestic Assistance No. 97.022, “Flood Insurance.”)

Dated: March 7, 2014.
Roy E. Wright,
Deputy Associate Administrator for Mitigation, Department of Homeland Security, Federal Emergency Management Agency.

[FR Doc. 2014-06094 Filed 3-19-14; 8:45 am]

BILLING CODE 9110-12-P